DEPARTMENT OF COMMERCE

International Trade Administration

[A-570-962, C-570-963]

Certain Potassium Phosphate Salts From the People's Republic of China: Continuation of Antidumping and Countervailing Duty Orders

AGENCY: Enforcement and Compliance, International Trade Administration, Department of Commerce.

SUMMARY: As a result of the determinations by the Department of Commerce (Commerce) and the International Trade Commission (ITC) that revocation of the antidumping duty (AD) and countervailing duty (CVD) orders on certain potassium phosphate salts (salts) from the People's Republic of China (China) would likely lead to a continuation or recurrence of dumping, countervailable subsidies, and material injury to an industry in the United States, Commerce is publishing a notice of continuation of these AD and CVD orders.

APPLICABLE DATE: Applicable July 12, 2021.

FOR FURTHER INFORMATION CONTACT: Emily Halle (AD order) or Mark Hoadley (CVD order), AD/CVD Operations, Enforcement and Compliance, International Trade Administration, U.S. Department of Commerce, 1401 Constitution Avenue NW, Washington, DC 20230; telephone: (202) 482-0176 and (202) 482-3148.

SUPPLEMENTARY INFORMATION:

Background

On July 22, 2010, the Department of Commerce (Commerce) published the AD and CVD orders on salts from China.¹ On November 1, 2020, the ITC instituted,² and on November 3, 2020, Commerce initiated,³ the second sunset review of the Orders, pursuant to section 751(c) of the Tariff Act of 1930 as amended (the Act). As a result of its reviews, Commerce determined that a revocation of the Orders would likely lead to continuation or recurrence of dumping and countervailable subsidies and, therefore, notified the ITC of the magnitude of the margins and net subsidy rates likely to prevail should the Orders be revoked.⁴

¹ See Certain Potassium Phosphate Salts from the People's Republic of China: Amended Final Determination of Sales at Less Than Fair Value and Antidumping Duty Order, 75 FR 42683 (July 22, 2010); see also Certain Potassium Phosphate Salts from the People's Republic of China: Countervailing Duty Order, 75 FR 42682 (July 22, 2010) (collectively, Orders).

² See Potassium Phosphate Salts from China; Institution of Five-Year Reviews, 85 FR 69352 (November 2, 2020).

³ See Initiation of Five-Year (Sunset) Reviews, 85 FR 69585 (November 3, 2020).

⁴ See Certain Potassium Phosphate Salts from the People's Republic of China: Final Results of the Expedited Second Sunset Review of the Antidumping Duty Order, 86 FR 13311 (March 8, 2021); see also, Certain Potassium Phosphate Salts from the People's Republic of China: Final Results of the Expedited Second Five-Year Sunset Review of the Countervailing Duty Order, 86 FR 13314 (March 8, 2021).

On July 7, 2021, the ITC published its determinations, pursuant to sections 751(c) and 752(a) of the Act, that revocation of the Orders would likely lead to continuation or recurrence of material injury to an industry in the United States within a reasonably foreseeable time.⁵

⁵ See Potassium Phosphate Salts from China, 86 FR 35827 (July 7, 2021).

Scope of the Orders

The products covered by the Orders include anhydrous Dipotassium Phosphate (DKP) and Tetrapotassium Pyrophosphate (TKPP), whether anhydrous or in solution (collectively “phosphate salts”).

TKPP, also known as normal potassium pyrophosphate, Diphosphoric acid or Tetrapotassium salt, is a potassium salt with the formula K4P2O7. The CAS registry number for TKPP is 7320-34-5. TKPP is typically 18.7 percent phosphorus and 47.3 percent potassium. It is generally greater than or equal to 43.0 percent P2O5 content. TKPP is classified under heading 2835.39.1000 of the Harmonized Tariff Schedule of the United States (HTSUS).

DKP, also known as Dipotassium salt, Dipotassium hydrogen orthophosphate or Potassium phosphate, dibasic, has a chemical formula of K2HPO4. The CAS registry number for DKP is 7758-11-4. DKP is typically 17.8 percent phosphorus, 44.8 percent potassium and 40 percent P2O5 content. DKP is classified under heading 2835.24.0000, HTSUS.

The products covered by these Orders include the foregoing phosphate salts in all grades, whether food grade or technical grade. The products covered by these Orders includes anhydrous DKP without regard to the physical form, whether crushed, granule, powder or fines. Also covered are all forms of TKPP, whether crushed, granule, powder, fines or solution.

For purposes of the Orders, the narrative description is dispositive, and not the tariff heading, American Chemical Society, CAS registry number or CAS name, or the specific percentage chemical composition identified above.

Continuation of the Orders

As a result of the determinations by Commerce and the ITC that revocation of the Orders would likely lead to a continuation or a recurrence of dumping and countervailable subsidies, as well as material injury to an industry in the United States, pursuant to section 751(d)(2) of the Act and 19 CFR 351.218(a), Commerce hereby orders the continuation of the Orders.

U.S. Customs and Border Protection will continue to collect AD and CVD cash deposits at the rates in effect at the time of entry for all imports of subject merchandise. The effective date of the continuation of the Orders will be the date of publication in the Federal Register of this notice of continuation. Pursuant to section 751(c)(2) of the Act and 19 CFR 351.218(c)(2), Commerce intends to initiate the next five-year review of the Orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year sunset reviews and this notice are in accordance with sections 751(c) and 751(d)(2) of the Act and published in accordance with section 777(i)(1) of the Act and 19 CFR 351.218(f)(4).

Dated: July 7, 2021.
James Maeder,
Deputy Assistant Secretary for Antidumping and Countervailing Duty Operations.

[FR Doc. 2021-14756 Filed 7-9-21; 8:45 am]

BILLING CODE 3510-DS-P